DEPARTMENT OF AGRICULTURE

Foreign Agricultural Service

Trade Adjustment Assistance for Farmers

AGENCY: Foreign Agricultural Service, USDA.

ACTION: Notice.

The Administrator of the Foreign Agricultural Service (FAS) has certified a petition (No. 2010003) for trade adjustment assistance (TAA) for asparagus that was filed by the National Asparagus Council and accepted for review by USDA on May 3, 2010. Individual producers, nationwide, will be eligible to apply for Fiscal Year (FY) 2010 benefits during an application period ending September 23, 2010.

SUPPLEMENTARY INFORMATION: All petitions were analyzed by USDA's Economic Research Service and reviewed by the TAA for Farmers Review Committee, comprised of representatives from USDA's Office of the Chief Economist, Farm Service Agency, Agricultural Marketing Service, and Foreign Agricultural Service. Upon a review, the Administrator determined that increased imports of asparagus during January-December 2009 contributed importantly to a greater than 15-percent decline in the quantity of production in 2009, compared to the previous 3-year average. This conforms to the eligibility requirements stipulated in Subtitle C of Title I of the Trade Act of 2002 (Pub. L. 107-210).

Individual asparagus producers, nationwide, interested in applying for technical training and cash benefits must complete and submit a written application to their local Farm Service Agency Service Center by the application deadline of September 23, 2010. After submitting a completed application, producers may receive technical assistance provided at no cost and may receive cash benefits, if the applicable program eligibility requirements are satisfied. Applicants must complete the technical assistance provided under the program in order to be eligible for cash benefits.

Producers Certified as Eligible For TAA for Farmers' Program Should Contact: USDA, Farm Service Agency (at your local service center).

FOR FURTHER INFORMATION CONTACT: Trade Adjustment Assistance for Farmers Staff, FAS, USDA, by phone: (202) 720-0638, or (202) 690-0633; or by e-mail: tradeadjustment@fas.usda.gov; or visit the TAA for Farmers' Web site: http://www.fas.usda.gov/itp/taa.

Dated: July 8, 2010.
John D. Brewer,
Administrator, Foreign Agricultural Service.

[FR Doc. 2010-17353 Filed 7-15-10; 8:45 am]

BILLING CODE 3410-10-P